Proclamation 7712 of October 3, 2003

National Disability Employment Awareness Month, 2003

By the President of the United States of America

A Proclamation

For Americans with disabilities, employment is vital to independence, empowerment, and quality of life. During National Disability Employment Awareness Month, we recognize the many contributions citizens with disabilities make to our society, and we reaffirm our commitment to helping them achieve their full inclusion in our workforce.

Today, Americans with disabilities enjoy improved access to education, government services, public accommodations, transportation, telecommunications, and employment opportunities. The landmark Americans with Disabilities Act of 1990 (ADA) removed barriers and enabled many individuals with disabilities to find more opportunities to use their gifts and talents in the workplace. This progress has made our Nation stronger, more productive, and more just. People with disabilities still encounter challenges, however, to their full participation in American society.

In February 2001, I launched the New Freedom Initiative to address these challenges, to fulfill the promises of the ADA, and to move toward an America where all our citizens live and work with dignity and freedom. This comprehensive plan is helping Americans with disabilities learn and develop skills, engage in productive work, make choices about their daily lives, and participate fully in their communities.

A key component of the New Freedom Initiative is our commitment to integrate individuals with disabilities into the workforce. We have made substantial progress toward this goal. The Department of Justice has established an ADA Business Connection, a series of meetings between representatives of the business and disability communities to open dialogue that will promote greater understanding and increased voluntary compliance with the ADA. Also, the Department of Health and Human Services and the Social Security Administration are implementing the landmark “Ticket to Work” program that makes it possible for millions of Americans with disabilities to no longer have to choose between having a job and receiving health care. And the Department of Labor has established two national technical assistance centers on workforce and disability that offer training, technical assistance, and information to improve access for all in the workforce development system.

By working together to open doors of opportunity for citizens with disabilities, we can help fulfill the promise of our great Nation.

To recognize the contributions of Americans with disabilities and to encourage all citizens to help ensure their full inclusion in the workforce, the Congress, by joint resolution approved August 11, 1945, as amended (36 U.S.C. 121), has designated October of each year as “National Disability Employment Awareness Month.”

NOW, THEREFORE, I, GEORGE W. BUSH, President of the United States of America, do hereby proclaim October 2003 as National Disability Employment Awareness Month. I call upon government officials, labor leaders, employers, and all the people of the United States to observe this month with appropriate programs, ceremonies, and activities.

IN WITNESS WHEREOF, I have hereunto set my hand this third day of October, in the year of our Lord two thousand three, and of the Independence of the United States of America the two hundred and twenty-eighth.

B

[FR Doc. 03-25650

Filed 10-7-03; 8:45 am]

Billing code 3195-01-P